DEPARTMENT OF THE INTERIOR

Bureau of Land Management

[LLORW00000L10200000.ML0000241A.0000-HAG14-0027]

Notice of Intent To Establish and Call for Nominations for the San Juan Islands National Monument Advisory Committee, Washington

AGENCY: Bureau of Land Management, Interior.

ACTION: Notice.

SUMMARY: The Bureau of Land Management (BLM) is publishing this notice in accordance with the Federal Land Policy and Management Act (FLPMA) and the Federal Advisory Committee Act (FACA). The BLM gives notice that the Secretary of the Interior is establishing the San Juan Islands National Monument Advisory Committee. This notice also solicits nominations for members of the public to sit on the Committee. The Committee will provide information and advice regarding the development of the National Monument's management plan as stated in the Presidential Proclamation establishing the Monument.

DATES: All nominations must be received by March 24, 2014.

ADDRESSES: Nominations should be submitted to Daniel Picard, BLM Spokane District Manager, 1103 N. Fancher Road, Spokane, WA 99212, Attention: RAC Nominations.

FOR FURTHER INFORMATION CONTACT: Daniel Picard, BLM Spokane District Manager, 509-536-1200.

SUPPLEMENTARY INFORMATION: The FLPMA (43 U.S.C. 1739) directs the Secretary of the Interior to involve the public in planning and issues related to management of lands administered by the BLM. Section 309 of FLPMA directs the Secretary to establish 10-to-15-member citizen-based advisory councils that are consistent with FACA. The rules governing RACs are found at 43 CFR subpart 1784. As required by FACA, Resource Advisory Committee (RAC) membership must be balanced and representative of the various interests concerned with the management of the public lands. The San Juan Islands National Monument Advisory Committee will be composed of 12 members: 2 members representing recreation and tourism interests, 2 members representing wildlife and ecological interests, 2 members representing cultural and heritage interests, 2 public-at-large members, 1 member representing tribal interests, 1 member representing local government, 1 member representing education and interpretation interests, and 1 member representing private landowners. Individuals may nominate themselves or others. Nominees must be residents of the district in which the RAC has jurisdiction. The BLM will evaluate nominees based on their education, training, experience, and knowledge of the geographic area of the RAC. Nominees should demonstrate a commitment to collaborative resource decision-making. The Obama Administration prohibits individuals who are currently federally registered lobbyists to serve on all FACA and non-FACA boards, committees or councils. The following must accompany all nominations.

• Letters of reference from represented interests or organizations;

• A completed background information nomination form; and

• Any other information that addresses the nominee's qualifications.

Simultaneous with this notice, the BLM Spokane District Office will issue a press release providing additional information for submitting nominations, with the specifics about the number and categories of member positions available.

Certification Statement: I certify that the BLM San Juan Islands National Monument Advisory Committee is necessary and in the public interest in connection with the Secretary's responsibilities to manage the lands, resources and facilities administered by the BLM.

(Authority: 43 CFR 1784.4-1).

Dated: January 24, 2014.
Sally Jewell,
Secretary of the Interior.

[FR Doc. 2014-02536 Filed 2-5-14; 8:45 am]

BILLING CODE 4310-33-P